DEPARTMENT OF JUSTICE

Notice of Proposed Consent Decree Under the Clean Water Act

Notice is hereby given that on December 2, 2010, a proposed Consent Decree was lodged. United States et al. v. Beazer Homes USA, Inc., Civil Action No. 3:10-cv-01133, was lodged with the United States District Court for the Middle District of Tennessee.

The Consent Decree in this Clean Water Act enforcement action against Beazer Homes USA, Inc. (“Beazer”) resolves allegations by the Environmental Protection Agency, asserted in a complaint filed together with the Consent Decree, under Section 309 of the Clean Water Act, 33 U.S.C. 1319, for alleged stormwater violations at Beazer's home sites in 21 states nationwide. The proposed Consent Decree also resolves separate but related state law claims brought by co-plaintiff States of Colorado, Florida, Indiana, Maryland, Nevada, Tennessee, and Virginia. In addition to the payment of civil penalties, the settlement requires Beazer to develop improved pollution prevention plans for each construction site, conduct additional site inspections, and promptly correct any problems detected. Beazer must properly train construction managers and contractors, and implement a management and internal reporting system to improve oversight of on-the-ground operations.

The Department of Justice will receive comments relating to the proposed Consent Decrees for a period of thirty (30) days from the date of this publication. Comments should be addressed to the Assistant Attorney General, Environment and Natural Resources Division, and either e-mailed to pubcomment-ees.enrd@usdoj.gov or mailed to P.O. Box 7611, U.S. Department of Justice, Washington, DC 20044-7611, and should refer to the matters as United States et al. v. Beazer Homes USA, Inc., DOJ Ref. No. 90-5-1-1-08420.

The Consent Decree may be examined at the Region 4 Office of the United States Environmental Protection Agency, located at the Sam Nunn Atlanta Federal Center, 61 Forsyth Street, SW., Atlanta, GA 30303-8960.

During the public comment period, the proposed agreements may also be examined on the following Department of Justice Web site: http://www.usdoj.gov/enrd/Consent_Decrees.html. Copies of the proposed agreements may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting from the Consent Decree Library a copy of the consent decree for United States et al. v. Beazer Homes USA, Inc., Civil Action No. 3:10-cv-01133, please enclose a check in the amount of $44.00 (25 cents per page reproduction cost), payable to the U.S. Treasury.

Maureen Katz,
Assistant Chief, Environmental Enforcement Section, Environment and Natural Resources Division.

[FR Doc. 2010-30743 Filed 12-7-10; 8:45 am]

BILLING CODE 4410-15-P